DEPARTMENT OF COMMERCE

National Oceanic and Atmospheric Administration

Evaluation of Coastal Zone Management Programs and National Estuarine Research Reserves

AGENCY: Office of Ocean and Coastal Resource Management, National Ocean Service, National Oceanic and Atmospheric Administration (NOAA), DOC.

ACTION: Notice of intent to evaluate—rescheduled site visit and public meeting.

SUMMARY: The NOAA Office of Ocean and Coastal Resource Management (OCRM) announces its intent to evaluate the performance of the South Slough National Estuarine Research Reserve, Oregon, at a rescheduled time.

The South Slough National Estuarine Research Reserve, Oregon, evaluation site visit will be held June 21-25, 2004. One public meeting will be held during the week. The public meeting will be on Thursday, June 24, 2004, at 6:30 p.m., in the large conference room at the North Bend Library, 1800 Sherman Avenue, North Bend, Oregon. This site visit replaces a site visit originally scheduled for June 14-18, 2004. Likewise, the public meeting scheduled above replaces a public meeting originally set for Thursday, June 17, 2004.

Notice of the earlier site visit and public meeting was published in the Federal Register, March 23, 2004.

FOR FURTHER INFORMATION CONTACT: Ralph Cantral, Chief, National Policy and Evaluation Division, Office of Ocean and Coastal Resource Management, NOS/NOAA, 1305 East-West Highway, N/ORM7, Silver Spring, Maryland 20910, (301) 713-3155, Extension 118.

Federal Domestic Assistance Catalog 11.419, Coastal Zone Management Program Administration.

Dated: May 10, 2004.
Jamison S. Hawkins,
Deputy Assistant Administrator, Ocean Services and Coastal Zone Management.

[FR Doc. 04-11043 Filed 5-14-04; 8:45 am]

BILLING CODE 3510-08-P